DEPARTMENT OF AGRICULTURE

Forest Service

National Urban and Community Forestry Advisory Council

AGENCY: Forest Service, USDA.

ACTION: Notice of meeting.

SUMMARY: The National Urban and Community Forestry Advisory Council will meet in Portland, Oregon, June 13-15, 2002. The purpose of the meeting is to discuss emerging issues in urban and community forestry and to determine the categories for the 2003 Challenge Cost-Share grant program.

DATES: The meeting will be held June 13-15, 2002. A tour of local projects will be held June 13, from 9 a.m. to 4 p.m.

ADDRESSES: The meeting will be held at the Westin Hotel, 750 SW. Alder Street, Portland, Oregon. Individuals who wish to speak at the meeting or to propose agenda items must send their names and proposals to Suzanne M. del Villar, Executive Assistant, National Urban and Community Forestry Advisory Council, 20628 Diane Drive, Sonora, California 95370. Individuals may fax their names and proposed agenda items to (209) 536-9089.

FOR FURTHER INFORMATION CONTACT: Suzanne M. del Villar, Cooperative Forestry Staff, (209) 536-9201.

SUPPLEMENTARY INFORMATION: The Challenge Cost-Share Grant categories, identified by the Council, are advertised annually to solicit proposals for projects, which advance the knowledge of, and promote interest in, urban and community forestry. Pursuant to 5 U.S.C. 552b(c)(9)(B), the meeting will be closed from approximately 8 a.m. to 11 a.m. on June 15, in order for the Council to determine the categories for the 2003 Challenge Cost-Share grant program. Otherwise, the meeting is open to the public.

Council discussion is limited to Forest Service staff and Council members; however, persons who wish to bring urban and community forestry matters to the attention of the Council may file written statements with the Council staff before or after the meeting. Public input sessions will be provided.

Dated: May 15, 2002.
Ann M. Veneman,
Secretary, U.S. Department of Agriculture.

[FR Doc. 02-13382 Filed 5-28-02; 8:45 am]

BILLING CODE 3410-11-P